DEPARTMENT OF COMMERCE

International Trade Administration

[A-351-806]

Silicon Metal From Brazil: Notice of Rescission of Antidumping Duty Administrative Review

AGENCY: Import Administration, International Trade Administration, Department of Commerce.

SUMMARY: In response to a request from Globe Metallurgical Inc. (Globe), a domestic producer of silicon metal, the Department of Commerce initiated an administrative review of the antidumping duty order on silicon metal from Brazil. The period of review covers July 1, 2005, through February 15, 2006. Because the respondents had no sales or shipments to the United States during the period of review, we are now rescinding the review of these companies.

EFFECTIVE DATE: January 19, 2007.

FOR FURTHER INFORMATION CONTACT: Janis Kalnins at (202) 482-1392 or Minoo Hatten at (202) 482-1690, AD/CVD Operations, Office 5, Import Administration, International Trade Administration, U.S. Department of Commerce, 14th Street and Constitution Avenue, NW, Washington, DC 20230.

SUPPLEMENTARY INFORMATION:

Background

On December 1, 2006, the Department of Commerce (the Department) published a notice of its intent to rescind the administrative review of the antidumping duty order on silicon metal from Brazil. See Silicon Metal from Brazil: Notice of Intent to Rescind Antidumping Duty Administrative Review, 71 FR 69550 (December 1, 2006) (Notice of Intent to Rescind). In that notice, the Department explained that, in response to its initiation of the administrative review, the respondents notified the Department that they had no entries, exports, or sales of the subject merchandise during the period July 1, 2005, through June 30, 2006. The Department examined the results of a customs data query and found no evidence of entries or shipments of the subject merchandise during the period of review that would contradict the respondents' claims.

On December 21, 2006, the Department published the revocation of the antidumping duty order on silicon metal from Brazil. See Silicon Metal from Brazil: Revocation of Antidumping Duty Order, 71 FR 76635 (December 21, 2006). The effective date of the revocation is February 16, 2006. As such, the period of review covering sales of subject merchandise is now July 1, 2005, through February 15, 2006.

Rescission of the Administrative Review

The Department will rescind an administrative review with respect to an exporter or producer if the Department concludes that there were no entries, exports, or sales of the subject merchandise during the period of review. See 19 CFR 351.213(d)(3). The Department gave interested parties 15 days from the date of publication of the Notice of Intent to Rescind to comment on its intent to rescind this review. No interested party has submitted comments on our intent to rescind this review within the given time period. Accordingly, we are rescinding this administrative review.

In accordance with the Department's clarification of its assessment policy (seeAntidumping and Countervailing Duty Proceedings: Assessment of Antidumping Duties, 68 FR 23954 (May 6, 2003)), in the event any entries were made during the period of review through intermediaries under U.S. Customs and Border Protection (CBP) case numbers for the respondents, the Department will instruct CBP to liquidate such entries at the all-others rate in effect on the date of entry.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is issued and published in accordance with 19 CFR 351.213(d)(4) and section 777(i)(1) of the Tariff Act of 1930, as amended.

Dated: January 12, 2007.
Stephen J. Claeys,
Deputy Assistant Secretary for Import Administration.

[FR Doc. E7-726 Filed 1-18-02; 8:45 am]

BILLING CODE 3510-DS-S